DEPARTMENT OF TRANSPORTATION

Federal Motor Carrier Safety Administration

[Docket No. FMCSA-2006-26367]

Motor Carrier Safety Advisory Committee (MCSAC): Public Subcommittee Meeting

AGENCY: Federal Motor Carrier Safety Administration (FMCSA), DOT.

ACTION: Notice of Meeting of Compliance, Safety, Accountability (CSA) Subcommittee of Motor Carrier Safety Advisory Committee (MCSAC).

SUMMARY: FMCSA announces that the CSA Subcommittee of the MCSAC will hold a meeting on Tuesday—Wednesday, October 16-17, 2012. Established at the August 2012 meeting of the MCSAC in accordance with Task 12-03, the subcommittee will provide the MCSAC with concepts, ideas, and recommendations on the CSA program. The entire subcommittee meeting will be open to the public, with a public comment period to occur during the last one-half hour of each day.

TIME AND DATES: The meetings will be held on Tuesday—Wednesday, October 16-17, 2012, from 8:30 a.m. to 4:30 p.m., Eastern Daylight Time (E.D.T.). The meeting will be held at the National Training Center (NTC), 1310 N. Courthouse Road, Suite 600, Arlington, VA in the Western Conference Room. The NTC is accessible by the Courthouse Metro station.

Copies of MCSAC Task Statement 12-03 and an agenda are available at http://mcsac.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals With Disabilities

For information on facilities or services for individuals with disabilities or to request special assistance at the meeting, contact Elizabeth Turner at (617) 494-2068, elizabeth.turner@dot.gov, by Wednesday, October 10, 2012.

SUPPLEMENTARY INFORMATION:

I. Background

MCSAC

Section 4144 of the Safe, Accountable, Flexible, Efficient Transportation Equity Act: A Legacy for Users (SAFETEA-LU, Public Law 109-59, 119 Stat. 1144, August 10, 2005) required the Secretary of Transportation to establish the MCSAC. The MCSAC provides advice and recommendations to the FMCSA Administrator on motor carrier safety programs and regulations, and operates in accordance with the Federal Advisory Committee Act (FACA, 5 U.S.C. App 2).

II. Meeting Participation

Oral comments from the public will be heard during the last half-hour of the meeting on each day. Should the subcommittee conclude its deliberations prior to the time stated in this notice, the public comment period will occur at that time. Additionally, should all public comments be exhausted prior to the end of the specified period, the comment period will close. Members of the public may submit written comments on the topics to be considered during the meeting by Wednesday, October 10, 2012, to the Docket, referencing Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: September 26, 2012.
Larry W. Minor,
Associate Administrator of Policy.

[FR Doc. 2012-24344 Filed 10-2-12; 8:45 am]

BILLING CODE 4910-EX-P